ENVIRONMENTAL PROTECTION AGENCY

40 CFR Part 51

[EPA-HQ-OAR-2008-0348; FRL-8913-7]

RIN 2060-AO58

Methods for Measurement of Filterable PM10 and PM2.5 and Measurement of Condensable Particulate Matter Emissions From Stationary Sources

AGENCY: Environmental Protection Agency (EPA).

ACTION: Proposed rule; announcement of reopening of comment period.

SUMMARY: EPA is reopening the comment period for the proposed rule entitled “Methods for Measurement of Filterable PM10 and PM2.5 and Measurement of Condensable Particulate Matter Emissions From Stationary Sources” that was proposed in the Federal Register on March 25, 2009. The 60-day comment period in the proposed rule ended on May 26, 2009. The reopened comment period will close on June 26, 2009. EPA is reopening the comment period because of a request we received in a timely manner.

DATES: Comments: The comment period for the proposed rule published March 25, 2009 (74 FR 12970), is reopened. Comments must be received on or before June 26, 2009.

ADDRESSES: Submit your comments, identified by Docket ID Number EPA-HQ-OAR-2008-0348, by one of the following methods:

• http://www.regulations.gov. Follow the on-line instructions for submitting comments.

• E-mail: Send your comments via electronic mail to a-and-r-docket@epa.gov.

• Fax: (202) 566-9744.

• Mail: Methods for Measurement of Filterable PM10 and PM2.5 and Measurement of Condensable Particulate Matter Emissions from Stationary Sources, Environmental Protection Agency, Mailcode 2822T, 1200 Pennsylvania Ave., NW., Washington, DC 20460. Please include a total of two copies.

• Hand Delivery: EPA Docket Center EPA Headquarter Library, Room 3334, EPA West Building, 1301 Constitution Ave., NW., Washington, DC 20460. Such deliveries are accepted only during the Docket's normal hours of operation, and special arrangements should be made for deliveries of boxed information.

Instructions: Direct your comments to Docket ID No. EPA-HQ-OAR-2008-0348. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulation.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to the SUPPLEMENTARY INFORMATION section of this document or visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Methods for Measurement of Filterable PM10 and PM2.5 and Measurement of Condensable Particulate Matter Emissions from Stationary Sources Docket, EPA/DC, EPA West Building, Room 3334, 1301 Constitution Ave., NW., Washington, DC. The Public Reading Room/Docket Center is open from 8:30 a.m. to 4:30 p.m., Monday through Friday, excluding legal holidays. The telephone number for the Public Reading Room is (202) 566-1744, and the telephone number for the Air Docket Center is (202) 566-1742.

FOR FURTHER INFORMATION CONTACT: For general information, contact Ms. Candace Sorrell, U.S. EPA, Office of Air Quality Planning and Standards, Air Quality Assessment Division, Measurement Technology Group (E143-02), Research Triangle Park, NC 27711; telephone number: (919) 541-1064; fax number: (919) 541-0516; e-mail address: sorrell.candace@epa.gov. For technical questions, contact Mr. Ron Myers, U.S. EPA, Office of Air Quality Planning and Standards, Sector Policies and Programs Division, Measurement Policy Group (D243-05), Research Triangle Park, NC 27711; telephone number: (919) 541-5407; fax number: (919) 541-1039; e-mail address: myers.ron@epa.gov.

SUPPLEMENTARY INFORMATION:

A. What Should I Consider as I Prepare My Comments for EPA?

Do not submit information containing CBI to EPA through http://www.regulations.gov or e-mail. Send or deliver information identified as CBI only to the following address: Roberto Morales, OAQPS Document Control Officer (C404-02), U.S. EPA, Office of Air Quality Planning and Standards, Research Triangle Park, NC 27711, Attention Docket ID No. EPA-HQ-OAR-2008-0348. Clearly mark the part or all of the information that you claim to be CBI. For CBI information on a disk or CD-ROM that you mail to EPA, mark the outside of the disk or CD-ROM as CBI, and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

B. Where Can I Obtain a Copy of This Action and Other Related Information?

In addition to being available in the docket, an electronic copy of today's proposed amendments is also available on the Worldwide Web (http://www.epa.gov/ttn/) through the Technology Transfer Network (TTN). Following the Administrator's signature, a copy of the proposed amendment will be posted on the TTN's policy and guidance page for newly proposed or promulgated rules at http://www.epa.gov/ttn/oarpg. The TTN provides information and technology exchange in various areas of air pollution control.

Dated: May 28, 2009.
Jenny N. Edmonds,
Acting Director, Office of Air Quality Planning and Standards.

[FR Doc. E9-13164 Filed 6-4-09; 8:45 am]

BILLING CODE 6560-50-P